ENVIRONMENTAL PROTECTION AGENCY

40 CFR Part 745

Lead-Based Paint Poisoning Prevention in Certain Residential Structures

CFR Correction

In Title 40 of the Code of Federal Regulations, parts 700 to 789, revised as of July 1, 2008, on page 609, in § 745.225, remove the phrase “lead-based paint activities” and add in its place the phrase “renovator, dust sampling technician, or lead-based paint activities” in paragraphs (c)(13)(i) (two occurrences); (c)(13)(ii) introductory text, (A), and (B); (c)(13)(iii); (c)(13)(vi); and (c)(13)(viii).

[FR Doc. E9-10939 Filed 5-7-09; 8:45 am]

BILLING CODE 1505-01-D